DEPARTMENT OF EDUCATION

Office of Special Education and Rehabilitative Services; Overview Information; Technical Assistance and Dissemination to Improve Services and Results for Children with Disabilities—Model Demonstration Centers on Progress Monitoring; Notice Inviting Applications for New Awards for Fiscal Year (FY) 2005

Catalog of Federal Domestic Assistance (CFDA) Number: 84.326M.

DATES: Applications Available: June 30, 2005.

Deadline for Transmittal of Applications: August 8, 2005.

Deadline for Intergovernmental Review: August 24, 2005.

Eligible Applicants: Institutions of higher education (IHEs).

Estimated Available Funds: $1,200,000.

Estimated Average Size of Awards: $400,000.

Maximum Award: The Secretary does not intend to fund an application that proposes a budget exceeding $400,000 for a single budget period of 12 months.

Estimated Number of Awards: 3.

Note: The Department is not bound by any estimates in this notice.

Project Period: Up to 36 months. We will consider 48 months if a compelling case is made for extending the project.

Full Text of Announcement

I. Funding Opportunity Description

Purpose of Program: The purpose of this program is to promote academic achievement and improve results for children with disabilities by supporting technical assistance, model demonstration projects, dissemination of useful information, and implementation activities that are supported by scientifically based research.

Priority: In accordance with 34 CFR 75.105(b)(2)(v), this priority is from allowable activities specified in the statute (see sections 663 and 681(d) of the Individuals with Disabilities Education Act (IDEA)).

Absolute Priority: For FY 2005 this priority is an absolute priority. Under 34 CFR 75.105(c)(3), we consider only applications that meet this priority.

This priority is:

Technical Assistance and Dissemination to Improve Services and Results for Children with Disabilities—Model Demonstration Centers on Progress Monitoring

Background

Progress monitoring offers an economical and efficient strategy for measuring student performance and growth and, consistent with the No Child Left Behind Act and IDEA, for improving the achievement of children with disabilities. For school-age children, progress monitoring includes the establishment of academic goals for all students in a classroom, the determination of methods for measuring progress towards these goals, and reports of progress that are easily understood by educators, parents, and students. Data obtained through frequent progress monitoring indicate whether students' academic performance has improved as compared to their previous performance and the performance of their peers. The data also indicate whether instructional changes are needed on a class-wide or individual student basis.

Research indicates the positive impact that progress monitoring has on performance. Fuchs, Fuchs, and Hamlett (1993) found that teachers who use a type of progress monitoring called Curriculum-Based Measurement (CBM) plan more effective instruction. In addition, CBM enables students to feel more responsible for their learning and be more aware of their academic performance (Davis, Fuchs, Fuchs, & Whinnery, 1995). Finally, students whose teachers use CBM for modifying instruction have higher levels of achievement than students whose teachers do not implement CBM (Fuchs, Butterworth, & Fuchs, 1989).

Progress monitoring is also a critical component of Response to Intervention (RTI) models, which can be used in identifying children with learning disabilities (LD). This use of progress monitoring provides information to determine if a child is responding to class-wide instruction or, if not, to remedial interventions. Children who do not respond sufficiently to high quality class-wide instruction or evidence based remedial interventions may be considered for special education services as children with specific learning disabilities. Progress monitoring as a component of RTI may provide for earlier identification of children with learning disabilities than using the traditional discrepancy model for identification of children with learning disabilities. Earlier identification may, in turn, result in reduction of special education services needed or the intensity of services required throughout a child's school years. Progress monitoring, along with early intervening services, can even reduce the likelihood that a child will need special education services.

Progress monitoring can also be used to build effective individualized education programs (IEPs). It provides a way to document clear, meaningful, and measurable IEP goals and the methods used for measuring progress; and provides for periodic reports indicating a child's progress towards meeting these individual goals. Research indicates that, when progress monitoring is used in determining and measuring IEP goals, school-age students with disabilities have improved academic outcomes (e.g., Fuchs, Fuchs, Hamlett, & Allinder, 1991; Fuchs, Fuchs, Hamlett, & Ferguson, 1992).

Given the growing body of evidence around the importance of school readiness skills and intervening early, progress monitoring for preschool-age children is emerging as an appropriate focus for research. The recognition of the preschool years as a critical period in developing the skills needed for later school success is evident in recent reports from the National Research Council (Eager to Learn, 2001; From Neurons to Neighborhoods, 2002; and Preventing Reading Difficulties in Young Children, 1998). Several recent Federal initiatives (e.g., Early Reading First; Good Start Grow Smart; White House Summit on Early Childhood Cognitive Development in 2001) have highlighted the need for research-based practices and models that promote the development of school readiness skills. For preschool-age children, progress monitoring would involve a process targeting readiness goals: establishing readiness goals for all children in a classroom, determining the method for measuring progress towards these goals, and reporting data outcomes in a way that is easily understood by educators, parents, and children.

Thus far, most progress monitoring research and assessment development have occurred within the content areas of language and reading development and readiness. In addition, grantees under Early Reading First and Reading First have experimented with the use of progress monitoring strategies for improving reading-related outcomes, including reading readiness skills under Early Reading First. Research is also being conducted on progress monitoring as a component of RTI models for identifying children with learning disabilities. With the emergence of progress monitoring research that focuses on reading skills for elementary-age children and reading readiness skills for preschool-age children (three through five year olds), there is a clear need for the development of models that connect the two areas of research—the early elementary research and the emerging preschool research. A seamless progress monitoring system would allow educators to track systematically students' performance and progress as students move from one skill to the next, one year to the next, one curriculum to the next, and one setting to the next (Espin & Wallace, 2005). By connecting progress monitoring models from the preschool years to elementary school, readiness skills can be monitored more closely. More importantly, the progress of children who struggle in meeting readiness goals can be monitored from preschool into elementary and the interventions and strategies that are found to be successful for these children can be carried over into the early elementary years, ensuring that they continue to be successful, despite the change in grade, school, teacher, curriculum, etc. In addition, this progress monitoring research must be integrated within everyday practice in order to assess whether it is useful, effective, and applicable within typical early childhood and elementary school settings.

Priority

The purpose of this priority is to support three (3) centers to develop models that incorporate scientifically based research related to progress monitoring and that: (1) Use class-wide progress monitoring systems for all students, preschool (age three and above) through grade four, in regular and special education classrooms for instructional decision making; (2) use progress monitoring for accountability in special education, for example, by measuring a child's progress on achieving IFSP or IEP goals; and (3) use progress monitoring as a component of a RTI model for identifying children with learning disabilities. These progress monitoring models must apply and test research findings in typical settings where children with disabilities receive services to determine their usefulness, effectiveness, and general applicability to these typical settings. To meet this priority, the Centers must design and implement progress monitoring models that (i) focus on reading, language development, and readiness skills; (ii) include frequent instructional modifications and responses to intervention and pre-referral strategies; (iii) implement methods for measuring progress toward IFSP or IEP goals and reporting this progress to parents and (iv) implement methods for using RTI as a component of identification of children with learning disabilities. OSEP will award, through a contract, a separate center that will coordinate implementation and the determination of the effectiveness of the models. This Model Demonstration Coordination Center (MDCC) will develop a data coordination plan and cross site data collection instruments, generate common evaluation questions, synthesize and analyze data collection, monitor fidelity of implementation, ensure reliability of data, and foster dissemination of information.

Each Center must establish at least one model in at least three sites. A site must consist of an elementary school plus at least one preschool setting that feeds into the elementary school (e.g., Head Start, pre-K, early childhood special education).

In order to be considered for funding under this priority, an IHE must demonstrate that it has proven expertise in progress monitoring research, assessment development, or implementation. In addition, the IHE must establish a partnership with a Local Education Agency (LEA). This partnership will facilitate the implementation of scientifically-based models in typical early childhood and elementary settings and increase the likelihood that school personnel will sustain the models.

The start date for the projects funded under this competition is January 1, 2006. A meeting of all Centers as well as the MDCC will be held one month after the awards are made. The purposes of this meeting are to review and, as necessary, modify proposals and discuss collaboration among the Centers and the MDCC. Models will not be implemented during a planning and organizational period, which shall extend for a seven to nine month period after the awards are made.

An applicant for this competition must describe, in its application, the sites where models will be implemented and the methods used to recruit and select these sites.

To meet the requirements of this priority, each Center, at a minimum, must—

(a) Implement a model and a data collection plan that address both class-wide and individual child progress as well as outcomes in terms of multiple measures, including, but not limited to: State achievement assessments, norm-referenced assessments, and curriculum-based measures that are standardized and have alternate forms of equivalent difficulty;

(b) Provide and document initial and continuing professional development to administrators, regular educators, and special educators on the use of progress monitoring and its use in special and regular education settings to: improve readiness and academic outcomes for all children, promote instructional change, and develop IEPs;

(c) Collect data related to the fidelity of the implementation of the model and describe the methods of fidelity evaluation, as well as how these methods relate to continuing professional development and feedback provided to teachers and administrators;

(d) Identify methods for effectively reporting child progress to parents and for increasing communication and collaboration among parents and school/center staff;

(e) Collaborate with the other funded Centers under this priority and the MDCC in order to determine a plan for evaluating the impact of these models on children's readiness and academic progress and outcomes;

(f) Develop regular communication with OSEP's National Student Progress Monitoring Center to share information regarding topics such as successful strategies and less successful approaches for implementing progress monitoring in school and early childhood settings;

(g) Develop regular communication with the Research Institute on Progress Monitoring, the National Center on Learning Disabilities, and the Interagency School Readiness Consortium so that information regarding topics such as measurement and the use of progress monitoring as it relates to response to intervention may be exchanged;

(h) Develop and apply strategies for the dissemination of information to specific audiences, including teachers, families, administrators, policymakers, and researchers. Such strategies must involve collaboration with other technical assistance providers, organizations, and researchers;

(i) Prior to developing any new product, whether paper or electronic, submit for approval a proposal describing the content and purpose of the product to a project officer to be designated by OSEP and the document review board of OSEP's Dissemination Center;

(j) Budget for a two-day Project Directors' meeting in Washington, DC during each year of the project; and

(k) Maintain a Web site that includes relevant information and documents in a format that meets a government or industry-recognized standard for accessibility.

Waiver of Proposed Rulemaking: Under the Administrative Procedure Act (APA) (5 U.S.C. 553) the Department generally offers interested parties the opportunity to comment on a proposed priority. However, section 681(d) of IDEA makes the public comment requirements of the APA inapplicable to the priority in this notice.

Program Authority: 20 U.S.C. 1463 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: $1,200,000.

Estimated Average Size of Awards: $400,000.

Maximum Award: The Secretary does not intend to fund an application that proposes a budget exceeding $400,000 for a single budget period of 12 months.

Estimated Number of Awards: 3.

Note: The Department is not bound by any estimates in this notice.

Project Period: Up to 36 months. We will consider 48 months if a compelling case is made for extending the project.

III. Eligibility Information

1. Eligible Applicants: IHEs.

2. Cost Sharing or Matching: This competition does not involve cost sharing or matching.

3. Other: General Requirements— (a) The projects funded under this competition must make positive efforts to employ and advance in employment qualified individuals with disabilities (see section 606 of the IDEA).

(b) Applicants and grant recipients funded under this competition must involve individuals with disabilities or parents of individuals with disabilities ages birth through 26 in planning, implementing, and evaluating the projects (see section 682(a)(1)(A) of the IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.326M.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides;

• Double space (no more than three lines per vertical inch) all text in the application narrative, including titles, headings, footnotes, quotations, references, and captions, as well as all text in charts, tables, figures, and graphs; and

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times: Applications Available: June 30, 2005.

Deadline for Transmittal of Applications: August 15, 2005.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: August 24, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government-wide Grants.gov Apply site in FY 2005. Model Demonstration Centers on Progress Monitoring—CFDA Number 84.326M is one of the competitions included in this project.

If you choose to submit your application electronically, you must use the Grants.gov Apply site (Grants.gov). Through this site, you will be able to download a copy of the application package, complete it offline, and then upload and submit your application. You may not e-mail an electronic copy of a grant application to us. We request your participation in Grants.gov.

You may access the electronic grant application for the Model Demonstration Centers on Progress Monitoring—CFDA Number 84.326M competition at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted with a date/time received by the Grants.gov system no later than 4:30 p.m., Washington, DC time, on the application deadline date. We will not consider your application if it was received by the Grants.gov system later than 4:30 p.m. on the application deadline date. When we retrieve your application from Grants.gov, we will notify you if we are rejecting your application because it was submitted after 4:30 p.m. on the application deadline date.

• If you experience technical difficulties on the application deadline date and are unable to meet the 4:30 p.m., Washington, DC time, deadline, print out your application and follow the instructions in this notice for the submission of paper applications by mail or hand delivery.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that your application is submitted timely to the Grants.gov system.

• To use Grants.gov, you, as the applicant, must have a D-U-N-S Number and register in the Central Contractor Registry (CCR). You should allow a minimum of five business days to complete the CCR registration.

• You will not receive additional point value because you submit your application in electronic format, nor will we penalize you if you submit your application in paper format.

• You may submit all documents electronically, including all information typically included on the Application for Federal Education Assistance (ED 424), Budget Information—Non-Construction Programs (ED 524), and all necessary assurances and certifications. Any narrative sections of your application must be attached as files in a .DOC (document), .RTF (rich text) or .PDF (portable document) format.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326M), 400 Maryland Avenue, SW., Washington, DC 20202-4260;

or

By mail through a commercial carrier: U.S. Department of Education, Application Control Center—Stop 4260, Attention: (CFDA Number 84.326M), 7100 Old Landover Road, Landover, MD 20785-1506.

Regardless of which address you use, you must show proof of mailing consisting of one of the following:

(1) A legibly dated U.S. Postal Service postmark;

(2) A legible mail receipt with the date of mailing stamped by the U.S. Postal Service;

(3) A dated shipping label, invoice, or receipt from a commercial carrier; or

(4) Any other proof of mailing acceptable to the Secretary of the U.S. Department of Education.

If you mail your application through the U.S. Postal Service, we do not accept either of the following as proof of mailing:

(1) A private metered postmark; or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326M), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the ED 424 the CFDA number—and suffix letter, if any—of the competition under which you are submitting your application; and

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing measures that will yield information on various aspects of the quality of the Technical Assistance to Improve Services and Results for Children with Disabilities program. The measures will focus on: The extent to which projects provide high quality products and services; the relevance of project products and services to educational and early intervention policy and practice; and the use of products and services to improve educational and early intervention policy and practice.

Once the measures are developed, we will notify grantees if they will be required to provide any information related to these measures.

Grantees will also be required to report information on their projects' performance in annual reports to the Department (34 CFR 75.590).

VII. Agency Contact

FOR FURTHER INFORMATION CONTACT: Grace Duran, U.S. Department of Education, 400 Maryland Avenue, SW., room 4088, Potomac Center Plaza, Washington, DC 20202-2600. Telephone: (202) 245-7328.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free of charge at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 24, 2005.
John H. Hager,
Assistant Secretary for Special Education and Rehabilitative Services.

[FR Doc. 05-12949 Filed 6-29-05; 8:45 am]

BILLING CODE 4000-01-P